DEPARTMENT OF HOUSING AND URBAN DEVELOPMENT

[Docket No. FR-5030-FA-08]

Announcement of Funding Awards for the Community Development Technical Assistance Programs Fiscal Year 2006

AGENCY: Office of the Assistant Secretary for Community Planning and Development, HUD.

ACTION: Notice of funding awards.

SUMMARY: In accordance with section 102(a)(4)(C) of the Department of Housing and Urban Development Reform Act of 1989, this announcement notifies the public of funding decisions made by the Department in a competition for funding under the Notice of Funding Availability (NOFA) for the Community Development Technical Assistance programs. This announcement contains the names of the awardees and the amounts of the awards made available by HUD.

FOR FURTHER INFORMATION CONTACT: Mark A. Horwath, Director, Office of Technical Assistance and Management, Office of Community Planning and Development, 451 Seventh Street, SW., Room 7218, Washington, DC 20410-7000; telephone (202) 402-2576 (this is not a toll-free number). Hearing- and speech-impaired persons may access this number via TTY by calling the Federal Relay Service toll-free at (800) 877-8339. For general information on this and other HUD programs, call Community Connections at 1-800-998-9999 or visit the HUD Web site at http://www.hud.gov.

SUPPLEMENTARY INFORMATION: The Fiscal Year 2006 Community Development Technical Assistance program was designed to increase the effectiveness of HUD's HOME Investment Partnerships Program (HOME), CHDO (HOME) program, Youthbuild program, McKinney-Vento Homeless Assistance programs (Homeless), and Housing Opportunities for Persons with AIDS (HOPWA) program through the selection of technical assistance (TA) providers for these five programs.

The competition was announced in the SuperNOFA published March 8, 2006. The CD-TA NOFA was reopened on June 14, 2006 and closed on June 27, 2006 for those applicants located in areas designated by the President as disaster areas as a result of severe storms and flooding in Maine, Massachusetts and New Hampshire. The NOFA allowed for approximately $19.7 million for CD-TA grants. Applications were rated and selected for funding on the basis of selection criteria contained in that Notice. For the Fiscal Year 2006 competition, 52 awards, totaling $19,613,630 were awarded to 42 distinct technical assistance providers nationwide.

In accordance with section 102(a)(4)(C) of the Department of Housing and Urban Development Reform Act of 1989 (103 Stat. 1987, 42 U.S.C. 3545), the Department is publishing the grantees and the amounts of the awards in Appendix A to this document.

Dated: January 8, 2008.
Nelson R. Bregon,
General Deputy Assistant Secretary for Community Planning and Development.

Appendix A.—Fiscal Year 2006 Funding Awards for Community Development Technical Assistance Programs
Recipient | State | Amount
State of Alaska Housing Finance Corporation | AK | $30,000
Rural Community Assistance Corporation | CA | 545,000
Housing Assistance Council | DC | 180,000
NCB Development Corporation | DC | 280,000
National Council on Agricultural Life & Labor Research Fund | DE | 75,000
Housing Action of Illinois | IL | 125,000
Community Economic Development Assistance Corporation (CEDAC) | MA | 125,000
Enterprise Community Partners | MD | 350,000
Michigan State Housing Development Authority | MI | 225,000
Minnesota Housing Partnership | MN | 140,000
Coalition for Healthy African-American Relations & Marriages | MO | 20,000
Mississippi Home Corporation | MS | 125,000
The Affordable Housing Group of NC, Inc. | NC | 95,000
Training & Development Associates, Inc. | NC | 1,980,000
Local Initiatives Support Corporation | NY | 1,903,249
New York State Rural Housing Coalition, Inc. | NY | 60,000
Structured Employment Economic Development Corporation (SEEDCO) | NY | 778,751
Ohio Capital Corporation for Housing | OH | 58,000
Ohio CDC Association | OH | 58,000
Neighborhood Partnership Fund | OR | 80,000
Douglas-Cherokee Economic Authority, Inc. | TN | 150,000
Community Frameworks (aka Northwest Regional Facilitators) | WA | 50,000
Impact Capital | WA | 50,000
Urban Strategies | WI | 30,000
Wisconsin Partnership for Housing Development, Inc. | WI | 160,000
Total CHDO |  | 7,673,000
Dennison Associates | DC | 200,000
ICF Incorporated, L.L.C. | VA | 1,780,000
Total HOME |  | 1,980,000
State of Alaska Housing Finance Corporation | AK | 30,000
HomeBase/The Center for Common Concerns | CA | 200,000
Rural Community Assistance Corporation | CA | 60,000
Dennison Associates | DC | 945,000
Illinois Community Action Association | IL | 72,500
Homeless & Housing Coalition of Kentucky | KY | 40,000
Abt Associates | MA | 2,088,000
Canavan Associates | MA | 501,085
Technical Assistance Collaborative, Inc. | MA | 338,500
University of Massachusetts at Boston | MA | 75,000
Enterprise Community Partners | MD | 175,000
Minnesota Housing Partnership | MN | 52,000
Training & Development Associates, Inc. | NC | 641,000
New Mexico Coalition to End Homelessness | NM | 50,000
Center for Urban Community Services, Inc. | NY | 230,050
Corporation for Supportive Housing | NY | 25,000
The Nassau-Suffolk Coalition for the Homeless, Inc. | NY | 99,950
Coalition on Homelessness and Housing in Ohio | OH | 62,500
Douglas-Cherokee Economic Authority, Inc. | TN | 40,000
ICF Incorporated, L.L.C. | VA | 663,500
AIDS Housing of Washington | WA | 112,000
Total HOMELESS |  | 6,501,085
ICF Incorporated, L.L.C. | VA | 600,000
AIDS Housing of Washington | WA | 384,545
Total HOPWA |  | 984,545
YouthBuild USA, Inc. | MA | 1,475,000
Heartlands International, Inc. | VA | 1,000,000
Total YOUTHBUILD |  | 2,475,000
Grand Total |  | 19,613,630

[FR Doc. E8-4309 Filed 3-5-08; 8:45 am]

BILLING CODE 4210-67-P